DEPARTMENT OF HEALTH AND HUMAN SERVICES

Administration for Children and Families

[CFDA NUMBER: 93.658]

Announcement of a Single-Source Supplement Grant to the National Child Welfare Capacity Building Center for Tribes

AGENCY: Children's Bureau, ACYF, ACF, HHS.

ACTION: Notice.

SUMMARY: The Administration for Children and Families (ACF), Administration for Children Youth and Families (ACYF), Children's Bureau announces the award of a single-source supplement grant in the amount of $547,000 to the National Child Welfare Capacity Building Center for Tribes (CBCT), operated by the University of Denver (Colorado Seminary). The primary goal of this grant is to provide capacity-building services to title IV-E and IV-B American Indian and Alaska Native Nations (AI/AN), and to promote intergovernmental collaboration between tribes and state child welfare agencies in system improvement work.

DATES: Supplemental funding will support activities and costs from September 30, 2016, through September 29, 2017.

FOR FURTHER INFORMATION CONTACT: Dr. Roshanda Shoulders, Children's Bureau, 330 C Street SW., Washington, DC 20024. Telephone: 202-401-5323; email: roshanda.shoulders@acf.hhs.gov.

SUPPLEMENTARY INFORMATION: Supplemental funds would be used to enhance the development and delivery of high-quality products and services designed to build the capacities of child welfare systems to improve outcomes for AI/AN children, youth, and families and their communities. These enhanced services will build on CBCT's existing engagement and partnerships with state and tribal child welfare agencies to further address the needs of, and reduce disparities for, native children and families (e.g., rates of removal and placement in out-of-home care, access to effective and culturally appropriate services, well-being outcomes), and improve overall child welfare services delivery and outcomes for AI/AN children youth and families.

The supplemental funding will afford CBCT the opportunity to provide expanded universal and tailored technical assistance to tribes across the nation and allow for expanded and enhanced collaboration and coordination with the other capacity building providers.

The programmatic components targeted under this supplement will be for CBCT expansion activities to better meet the national need for universal and tailored services to tribal child welfare agencies. Over 180 tribes are eligible to receive capacity-building services through CBCT based on their management of title IV-B and tribal title IV-E funded programs. There has been a concerted outreach effort to encourage a maximum number of tribes to access services through CBCT.

Statutory Authority: Section 426(a)(1)(A) of the Social Security Act (42 U.S.C. 626(a)(1)(A)).

Mary M. Wayland,
Senior Grants Policy Specialist, Division of Grants Policy, Office of Administration.

[FR Doc. 2016-23909 Filed 10-3-16; 8:45 am]

BILLING CODE 4184-01-P